DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On November 17, 2022, OFAC determined that the property and interests in property subject to U.S. jurisdiction of the following persons are blocked under the relevant sanctions authority listed below.

Individuals

1. HURTADO OLASCOAGA, Johnny (a.k.a. “EL FISH”; a.k.a. “EL MOJARRO”; a.k.a. “EL MUHADO”; a.k.a. “EL PESCADO”; a.k.a. “EL PEZ”; a.k.a. “PECADO PEZ”), Mexico; DOB 01 Mar 1973; POB Guerrero, Mexico; nationality Mexico; Gender Male; C.U.R.P. HUOJ730301HGRRLH02 (Mexico) (individual) [ILLICIT-DRUGS-EO14059]. Sanctioned pursuant to section 1(a)(i) of Executive Order 14059 of December 15, 2021, “Imposing Sanctions on Foreign Persons Involved in the Global Illicit Drug Trade” (the “Order”), for having engaged in, or attempted to engage in, activities or transactions that have materially contributed to, or pose a significant risk of materially contributing to, the international proliferation of illicit drugs or their means of production.

2. HURTADO OLASCOAGA, Jose Alfredo (a.k.a. “EL FRESA”), Mexico; DOB 02 Sep 1984; POB Guerrero, Mexico; nationality Mexico; Gender Male; C.U.R.P. HUOA840902HGRRLL03 (Mexico) (individual) [ILLICIT-DRUGS-EO14059]. Sanctioned pursuant to section 1(a)(i) of the Order for having engaged in, or attempted to engage in, activities or transactions that have materially contributed to, or pose a significant risk of materially contributing to, the international proliferation of illicit drugs or their means of production.

Entity

1. LA NUEVA FAMILIA MICHOACANA (a.k.a. “LNFM”), Guerrero, Mexico; Michoacan, Mexico; Target Type Criminal Organization [ILLICIT-DRUGS-EO14059]. Sanctioned pursuant to section 1(a)(i) of the Order for having engaged in, or attempted to engage in, activities or transactions that have materially contributed to, or pose a significant risk of materially contributing to, the international proliferation of illicit drugs or their means of production.

Dated: November 17, 2022.
Andrea M. Gacki,
Director, Office of Foreign Assets Control, U.S. Department of the Treasury.

[FR Doc. 2022-25467 Filed 11-22-22; 8:45 am]

BILLING CODE 4810-AL-P